FEDERAL MARITIME COMMISSION

Ocean Transportation Intermediary Licenses; Correction

In the Federal Register Notice published February 8, 2006 (71 FR 28) reference to the date issued to A.S.A.P. Transport Ltd. is corrected to read:

License No. | Name/address | Date issued
008790N | A.S.A.P. Transport Ltd., 2414 Morris Avenue, Union, NJ 07083 | January 6, 2006.

Dated: February 10, 2006.
Bryant L. VanBrakle,
Secretary.

[FR Doc. E6-2161 Filed 2-14-06; 8:45 am]

BILLING CODE 6730-01-P